DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held December 9, 2004 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• December 9:

• Opening Session (Welcome and Introductory Remarks, Review/Approve Summary of Previous Meeting).

• Publication Consideration/Approval:

• Final Draft, Revised DO-245, Minimum Aviation System Performance Standards for Local Area Augmentation System (LAAS) RTCA Paper No. 198-04/PMC-370, prepared by SC-159.

• Final Draft, Revised DO-160D, Environmental Conditions and Test Procedures for Airborne Equipment, RTCA Paper No. 200-04/PMC-371, prepared by SC-135.

• Discussion:

• Special Committee Chairman's Reports.

• Action Item Review:

• Possible New SC-189 Activity-Interoperability Requirements for Mixed Data Communications.

• Review/Status.

• Requirements Focus Group (RFG).

• Review/Status.

• 406 MHz Emergency Locator Transmitter (ELTs).

• Review/Status.

• Flight Information Services (FIS)/Aeronautical Information Services (AIS) Data Link.

• Review/Status.

• Software Considerations in Aviation Systems.

• Review/Status.

• Review/Approve SC-205 Terms of Reference.

• Closing Session (Other Business, Document Production, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 12, 2004.
Natalie Ogletree,
FAA General Engineer, RTCA Advisory Committee.

[FR Doc. 04-26525 Filed 12-01-04; 8:45 am]

BILLING CODE 4910—13—M